DEPARTMENT OF JUSTICE

Notice of Lodging of Proposed Consent Decree Under the Clean Air Act

On September 11, 2018, the Department of Justice lodged a proposed consent decree with the United States District Court for the District of New Hampshire in the lawsuit entitled United States of America v. City of Manchester, New Hampshire, Civil Action No. 18-cv-00815.

The United States' Complaint seeks injunctive relief and civil penalties for violations of the Solid Waste Combustion provisions of the Clean Air Act and regulations applicable to certain sewage sludge incineration units. The consent decree requires the City of Manchester to perform injunctive relief and pay a civil penalty of $131,800.

The publication of this notice opens a period for public comment on the consent decree. Comments should be addressed to the Acting Assistant Attorney General, Environment and Natural Resources Division, and should refer to United States v. City of Manchester, D.J. Ref. No. 90-5-1-1-11620/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $10.25 (25 cents per page reproduction cost) payable to the United States Treasury.

Robert E. Maher, Jr.,
Assistant Section Chief, Environmental Enforcement Section, Environment and Natural Resources Division.

[FR Doc. 2018-20580 Filed 9-20-18; 8:45 am]

BILLING CODE 4410-15-P